NUCLEAR REGULATORY COMMISSION

[NRC-2012-0232]

Probabilistic Risk Assessment and Severe Accident Evaluation for New Reactors

AGENCY: Nuclear Regulatory Commission.

ACTION: Standard review plan-draft section revision; request for comment.

SUMMARY: The U.S. Nuclear Regulatory Commission (NRC) is soliciting public comment on the NUREG-0800, “Standard Review Plan (SRP) for the Review of Safety Analysis Reports for Nuclear Power Plants: LWR [Light Water Reactor] Edition,” Section 19.0, Revision 3, “Probabilistic Risk Assessment and Severe Accident Evaluation for New Reactors.” The NRC seeks public comment on draft Section 19.0, Revision 3, concerning deletion of certain considerations for the design certification rule, additional proposed acceptance criteria and review procedures for the NRC staff's review of an applicant's assessment of risk from accidents that could affect multiple modules in facilities with small modular integral pressurized water reactors (iPWRs), and additional procedures for the NRC staff's review of the results of the Probabilistic Risk Assessment (PRA) for non-power modes of operation.

DATES: Submit comments by February 6, 2015. Comments received after this date will be considered, if it is practical to do so, but the Commission is able to ensure consideration only for comments received on or before this date.

ADDRESSES: You may submit comments by any of the following methods (unless this document describes a different method for submitting comments on a specific subject).

• Federal Rulemaking Web site: Go to http://www.regulations.gov and search for Docket ID NRC-2012-0232. Address questions about NRC dockets to Carol Gallagher; telephone: 301-287-3422; email: Carol.Gallagher@nrc.gov. For technical questions, contact the individuals listed in the FOR FURTHER INFORMATION CONTACT section of this document.

• Mail comments to: Cindy Bladey, Office of Administration, Mail Stop: 3WFN-06-44M, U.S. Nuclear Regulatory Commission, Washington, DC 20555-0001.

For additional direction on obtaining information and submitting comments, see “Obtaining Information and Submitting Comments” in the SUPPLEMENTARY INFORMATION section of this document.

FOR FURTHER INFORMATION CONTACT: Jonathan DeGange, telephone: 301-415-6992, email: Jonathan.DeGange@nrc.gov or Nishka Devaser, telephone: 301-415-5196, email: Nishka.Devaser@nrc.gov, both are staff of the Office of New Reactors, U.S. Nuclear Regulatory Commission, Washington, DC 20555 0001.

SUPPLEMENTARY INFORMATION:

I. Obtaining Information and Submitting Comments

A. Obtaining Information

Please refer to Docket ID NRC-2012-0232 when contacting the NRC about the availability of information regarding this document. You may obtain publicly-available information related to this document by any of the following methods:

• Federal Rulemaking Web site: Go to http://www.regulations.gov and search for Docket ID NRC-2012-0232.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The SRP draft Section 19.0, Revision 3, Section Revision 2, and a redline strikeout detailing the specific changes from Revision 2 to Revision 3 are available in ADAMS under Accession Nos. ML14161A594, ML071700652, and ML14161A558.

• NRC's PDR: You may examine and purchase copies of public documents at the NRC's PDR, Room O1-F21, One White Flint North, 11555 Rockville Pike, Rockville, Maryland 20852.

B. Submitting Comments

Please include Docket ID NRC-2012-0232 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

On October 9, 2012 (77 FR 61446), the NRC solicited public comment on a prior version of draft Section 19.0, Revision 3. However, recent pre-application interactions between NRC staff and potential applicants for design certification have highlighted the NRC's expectations for information that is sufficiently complete and technically adequate to allow the NRC staff to conduct its detailed technical review and complete it within a predictable timeframe. For this reason, the NRC believes that it is important to include the additional guidance in Section 19.0, Revision 3, at this time.

III. Further Information

The NRC seeks public comment on draft Section 19.0, Revision 3. Specifically, the NRC seeks public comment only on the following three specific areas of focus: (1) Deletion of considerations for the design certification rule, (2) proposed acceptance criteria and review procedures for the NRC staff's review of the applicant's assessment of risk from accidents that could affect multiple modules in facilities with small modular iPWRs, and (3) procedures for the NRC staff's review of the results of the PRA for non-power modes of operation. This revision should clarify guidance related to the PRA for non-power modes of operation and small modular iPWRs.

Following the NRC staff's evaluation of public comments, the NRC intends to finalize SRP Section 19.0, Revision 3 in ADAMS and post it on the NRC's public Web site at http://www.nrc.gov/reading-rm/doc-collections/nuregs/staff/sr0800/. The SRP is guidance for the NRC staff. The SRP is not a substitute for the NRC's regulations, and compliance with the SRP is not required.

III. Backfitting and Issue Finality

Issuance of this draft SRP, if finalized, would not constitute backfitting as defined in § 50.109 of Title 10 of the Code of Federal Regulations (10 CFR) (the Backfit Rule) or otherwise be inconsistent with the issue finality provisions in 10 CFR part 52. The NRC's position is based upon the following considerations:

1. The draft SRP positions, if finalized, would not constitute backfitting, inasmuch as the SRP is internal guidance to the NRC staff.

The SRP provides internal guidance to the NRC staff on how to review an application for NRC's regulatory approval in the form of licensing. Changes in internal staff guidance are not matters for which either nuclear power plant applicants or licensees are protected under either the Backfit Rule or the issue finality provisions of 10 CFR part 52.

2. The NRC staff has no intention to impose the SRP positions on existing licensees either now or in the future.

The NRC staff does not intend to impose or apply the positions described in the draft SRP to existing licenses and regulatory approvals. Hence, the issuance of a final SRP—even if considered guidance within the purview of the issue finality provisions in 10 CFR part 52—would not need to be evaluated as if it was a backfit or as being inconsistent with issue finality provisions. If, in the future, the NRC staff seeks to impose a position in the SRP on holders of already issued licenses in a manner that does not provide issue finality as described in the applicable issue finality provision, then the NRC staff must make the showing as set forth in the Backfit Rule or address the criteria for avoiding issue finality as described in the applicable issue finality provision.

3. Backfitting and issue finality do not—with limited exceptions not applicable here—protect current or future applicants.

Applicants and potential applicants are not, with certain exceptions, protected by either the Backfit Rule or any issue finality provisions under 10 CFR part 52. Neither the Backfit Rule nor the issue finality provisions under 10 CFR part 52, with certain exclusions, were intended to apply to every NRC action that substantially changes the expectations of current and future applicants. The exceptions to the general principle are applicable whenever an applicant references a 10 CFR part 52 license (e.g., an early site permit) and/or NRC regulatory approval (e.g., a design certification rule) with specified issue finality provisions.

The NRC staff does not, at this time, intend to impose the positions represented in the draft SRP in a manner that is inconsistent with any issue finality provisions. If, in the future, the NRC staff seeks to impose a position in the draft SRP in a manner that does not provide issue finality as described in the applicable issue finality provision, then the NRC staff must address the criteria for avoiding issue finality as described in the applicable issue finality provision.

Dated at Rockville, Maryland, this 24th day of November 2014.
For the Nuclear Regulatory Commission.
Joseph Colaccino,
Chief, New Reactor Rulemaking and Guidance Branch, Division of Advanced Reactors and Rulemaking, Office of New Reactors.

[FR Doc. 2014-28601 Filed 12-5-14; 8:45 am]

BILLING CODE 7590-01-P